DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and comment. We published a Federal Register Notice with a 60-day public comment period on this information collection on April 8, 2004 (69 FR 18672). We are required to publish this notice in the Federal Register by the Paperwork Reduction Act of 1995.

DATES: Please submit comments by August 2, 2004.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Ms. Ann Shemaka, (202) 366-1575, Office of Infrastructure, Office of Bridge Technology, Federal Highway Administration, Department of Transportation, 400 Seventh Street, SW., Washington, DC 20590-0001. Office hours are from 7:30 a.m. to 4:30 p.m., Monday through Friday, except Federal holidays.

SUPPLEMENTARY INFORMATION: Title: Structure Inventory and Appraisal Sheet.

OMB Control Number: 2125-0501 (Expiration Date: July 31, 2004).

Abstract: The collection of the bridge information contained on the Structure Inventory and Appraisal Sheet (SI&A) is necessary to satisfy the requirements of Title 23 United States Code 144 and 151, and the Code of Federal Regulations, 23 Highways Part 650, Subpart C, National Bridge Inspection Standards (NBIS) and Subpart D, Highway Bridge Replacement and Rehabilitation Program. The National Bridge Inspection Standards require bridge inspection and reporting at regular intervals for all bridges located on public roads. The bridge inspection information is provided to the Federal Highway Administration (FHWA) on the Structure Inventory and Appraisal (SI&A) Sheets. The NBIS information is used for multiple purposes, including: (1) The determination of the condition of the Nation's bridges; (2) as a basis for setting priorities for the replacement or rehabilitation of bridges under the Highway Bridge Replacement and Rehabilitation Program (HBRRP); and (3) for apportioning HBRRP funds to the States for bridge replacement or rehabilitation. In addition, the information is used for strategic national defense needs and for preparing the report to Congress on the status of the Nation's highway bridges and funding under the HBRRP.

Respondents: 50 State Transportation Departments, the District of Columbia and Puerto Rico.

Frequency: Biannual inspections and annual reporting.

Estimated Total Annual Burden: The estimated total annual burden is 540,000 hours. The average burden is two hours to complete each SI&A sheet on the approximate 270,000 bridges that are inspected annually. The total bridge inventory (rounded to 600,000) requires biannual inspections. Approximately 10-percent of the 270,000 bridges that are inspected each year receive an extended inspection. Some States voluntarily inspect bridges more frequently; however, these estimates do not include this information.

Authority: The Paperwork Reduction Act of 1995; 44 U.S.C. Chapter 35, as amended; and 49 CFR 1.48.

Issued on: June 28, 2004.
James R. Kabel,
Chief, Management Programs and Analysis Division.

[FR Doc. 04-15045 Filed 7-1-04; 8:45 am]

BILLING CODE 4910-22-P